DEPARTMENT OF DEFENSE

Office of the Secretary

Meeting of the President's Information Technology Advisory Committee (PITAC), Formerly the Presidential Advisory Committee on High Performance Computing and Communications, Information Technology, and the Next Generation Internet

ACTION: Notice of meeting.

SUMMARY: This notice sets forth the schedule and summary agenda for the next meeting of the President's Information Technolgy Advisory Committee. The meeting will be open to the public. Notice of this meeting is required under the Federal Advisory Committee Act (Pub. L. 92-463).

DATES: September 25, 2001.

ADDRESSES: National Science Foundation, Room 555. 4121 Wilson Boulevard, Arlington, VA 22230.

Proposed Schedule and Agenda: The President's Information Technology Advisory Committee will meet in open session on September 25, 2001, approximately 8 a.m.-2:45 p.m. The tentative meeting agenda includes:

1. Updates and reports from the PITAC's panels on national security and individual/personal security;

2. Reports from PITAC's discovery/review subcommittees on scalable information infrastructure, high-end computing, software, and socio-economic and workforce issues.

3. A discussion on e-health; and

4. A discussion on e-government.

FOR FURTHER INFORMATION CONTACT: The National Coordination Office for Information Technology Research and Development, formerly the National Coordination Office for Computing, Information, and Communications, provides information about the PITAC on its website at www.itrd.gov and can be reached by phone at 703/292-4873. Public seating for this meeting is limited and is available on first come first served basis.

Dated: August 21, 2001.
L.M. Bynum,
Alternate OSD Federal Register, Liaison Officer, Department of Defense.

[FR Doc. 01-21637 Filed 8-27-01; 8:45 am]

BILLING CODE 5001-08-M